DEPARTMENT OF DEFENSE

Department of the Air Force

[Docket ID USAF-2015-HQ-0005]

Proposed Collection; Comment Request

AGENCY: Department of Defense Medical Examination Review Board, Department of the Air Force, DoD.

ACTION: Notice.

SUMMARY: In compliance with the Paperwork Reduction Act of 1995, the Department of Defense Medical Examination Review Board announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Department of Defense Medical Examination Review Board (DoDMERB), 8034 Edgerton Drive, Suite 132, USAF Academy, CO 80840-2200.

SUPPLEMENTARY INFORMATION: Title; Associated Form; and OMB Number: DoDMERB Report of Medical Examination; DD Forms 2351, 2369, 2370, 2372, 2374, 2378, 2379, 2380, 2381, 2382, 2489, and 2492; OMB Control Number 0704-0396.

Needs and Uses: The information collection requirement is necessary to determine the medical qualification of applicants to the five Service academies, the four-year Reserve Officer Training Corps College Scholarship Program, Uniformed Services University of the Health Sciences, and the Army, Navy, and Air Force Scholarship and Non-Scholarship Programs. The collection of medical history of each applicant is to determine if applicants meet medical standards outlined in the Department of Defense Directive 6130.3, Physical Standards for Appointment, Enlistment or Induction.

Affected Public: Individuals of households.

Annual Burden Hours: 45,000.

Number of Respondents: 45,000.

Responses per Respondent: 1.

Annual Responses: 45,000.

Average Burden per Response: 60 minutes.

Frequency: On occasion.

Respondents are individuals who are interested in applying to attend one of the five Service academies, the four-year Reserve Officer Training Corps Scholarship Program, Uniformed Services University of the Health Sciences, or Army, Navy, and Air Force Scholarship and Non-Scholarship Programs.

The completed forms are processed through medical reviewers representing their respective services to determine a medical qualification status. Associated forms may or may not be required depending on the medical information contained in the medical examination. If the medical examination and associated forms, if necessary, are not accomplished, individuals reviewing the medical examination cannot be readily assured of the medical qualifications of the individual. Without this process the individual applying to any of these programs could not have a medical qualification determination. It is essential that individuals have a medical qualification determination to ensure compliance with the physical standards established for each respective military service program.

Dated: October 5, 2015.
Aaron Siegel,
Alternate OSD Federal Register Liaison Officer, Department of Defense.

[FR Doc. 2015-25961 Filed 10-9-15; 8:45 am]

BILLING CODE 5001-06-P